DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Vehicle Mechanical Inspection Report for Transportation Subject to Department of Transportation Requirements (WH-514); Vehicle Mechanical Inspection Report for Transportation Subject to Department of Labor Safety Standards (WH-514a). A copy of the proposed information collection request can be obtained by contacting the office listed below in the addresses section of this Notice.

DATES: Written comments must be submitted to the office listed in the ADDRESSES section below on or before March 22, 2004.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION

I. Background

Section 401 of the Migrant and Seasonal Agricultural Worker Protection Act (MSPA) requires that farm labor contractor, agricultural employers, or agricultural associations who use any vehicle to transport a migrant or seasonal agricultural worker, ensure that such vehicle conforms to vehicle State safety standards prescribed by MSPA and other applicable Federal and State safety standards. The use of forms WH-514 and WH-514a enable an applicant to verify to the Department or appropriate State agency that the vehicles used to transport such workers meet these safety standards. The WH-514 is used to verify that Department of Transportation safety standards are set for all vehicles other than passenger automobiles or station wagons, and the WH-514a is used to verify that Department of Labor safety standards are met for all vehicles including passenger automobiles or station wagons. This information collection is currently approved for use through July 31, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to verify that farm labor contractors, agricultural employers, and agricultural associations have complied with the applicable safety standards.

Type of Review: Extension.

Agency: Employment Standards Administration.

Title: Vehicle Mechanical Inspection Report for Transportation Subject to Department of Transportation Requirements (WH-514); Vehicle Mechanical Inspection Report for Transportation Subject to Department of Labor Safety Standards (WH-514a).

OMB Number: 1215-0036.

Agency Number: WH-514 and WH-514a.

Affected Public: Business or other for profit; Farms.

Total Respondents: 1,020.

Total Responses: 3,060.

Average Time per Response: 5 minutes.

Estimated Total Burden Hours: 255.

Frequency: On Occasion.

Total Burden Cost (capital/startup): $0.

Total Burden Cost (operating/maintenance): $140,760.

Comments submitted in response to this notice will be summarized and/or included in the request for Office of Management and Budget approval of the information collection request; they will also become a matter of public record.

Dated: January 14, 2004.
Bruce Bohanon,
Chief, Branch of Management Review and Internal Control, Division of Financial Management, Office of Management, Administration and Planning, Employment Standards Administration.

[FR Doc. 04-1176 Filed 1-20-04; 8:45 am]

BILLING CODE 4510-27-P